DEPARTMENT OF COMMERCE

International Trade Administration

(A-549-817)

Certain Hot-Rolled Carbon Steel Flat Products from Thailand: Notice of Extension of Time Limit for the Preliminary Results of the Antidumping Duty Administrative Review

AGENCY: Import Administration, International Trade Administration, Department of Commerce.

EFFECTIVE DATE: July 24, 2007.

FOR FURTHER INFORMATION CONTACT: Dena Crossland or Stephen Bailey, AD/CVD Operations, Office 7, Import Administration, International Trade Administration, U.S. Department of Commerce, 14th Street and Constitution Avenue, NW, Washington, DC 20230; telephone: (202) 482-3362 or (202) 482-0193, respectively.

SUPPLEMENTARY INFORMATION:

Background

On December 27, 2006, the Department of Commerce (“the Department”) published a notice of initiation of administrative review of the antidumping duty order on certain hot-rolled carbon steel flat products from Thailand, covering the period November 1, 2005, through October 31, 2006. See Initiation of Antidumping and Countervailing Duty Administrative Reviews, 71 FR 77720 (December 27, 2006). The preliminary results for this review are currently due no later than August 2, 2007.

Statutory Time Limits

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Preliminary Results

The deadline for the preliminary results of this administrative review is currently August 2, 2007. The Department determines that completion of the preliminary results within the statutory time period is not practicable. On May 30, 2007, the Department issued a section D questionnaire to respondent G Steel Public Company Limited (“G Steel”). On June 20, 2007, the Department issued G Steel a supplemental sales questionnaire requesting additional information regarding the business operations of certain affiliated companies. G Steel submitted its section D and supplemental sales questionnaire responses on June 27, 2007, and July 11, 2007, respectively. The Department requires additional time to review and analyze G Steel's questionnaire responses, to issue additional supplemental sales and cost questionnaires to G Steel and/or G Steel's affiliates, and to conduct verification of the questionnaire responses, if necessary.

Therefore, given the additional time needed to conduct a complete analysis for this administrative review, in accordance with section 751(a)(3)(A) of the Act, the Department is extending the time period for completion of the preliminary results to 365 days. Therefore, the preliminary results are now due no later than November 30, 2007. The final results continue to be due no later than 120 days after publication of the notice of the preliminary results.

This notice is published in accordance with sections 751(a)(3)(A) and 777(i)(1) of the Act.

Dated: July 16, 2007.
Stephen J. Claeys,
Deputy Assistant Secretary for Import Administration.

[FR Doc. E7-14288 Filed 7-23-07; 8:45 am]

BILLING CODE 3510-DS-S